ENVIRONMENTAL PROTECTION AGENCY

[EPA-HQ-OAR-2007-0268; FRL-9833-5]

Updates to Protective Action Guides Manual: Protective Action Guides (PAGs) and Planning Guidance for Radiological Incidents

AGENCY: Environmental Protection Agency (EPA).

ACTION: Proposed guidance; extension of comment period.

SUMMARY: The U.S. Environmental Protection Agency is announcing an extension of the public comment period for the proposed guidance “PAG Manual: Protective Action Guides (PAGs) and Planning Guidance for Radiological Incidents” (the proposed guidance is hereinafter referred to as “PAGs”). The EPA published the proposed guidance in the Federal Register, which included a request for comment, on April 15, 2013. The public comment period was to end on July 15, 2013. The purpose of this notice is to extend the public comment period an additional 60 days.

DATES: Written comments must be received on or before September 16, 2013.

ADDRESSES: Submit your comments, identified by Docket ID No. EPA-HQ-OAR-2007-0268, by one of the following methods:

• www.regulations.gov: Follow the on-line instructions for submitting comments.

• Email: a-and-r-docket@epa.gov.

• Mail: Air and Radiation Docket and Information Center, U.S. Environmental Protection Agency, Mailcode: 2822T, 1200 Pennsylvania Ave. NW., Washington, DC 20460.

• Hand Delivery: EPA Docket Center, EPA West Building, Room 3334, 1301 Constitution Ave. NW., Washington, DC 20460. Such deliveries are only accepted during the Docket's normal hours of operation, and special arrangements should be made for deliveries of boxed information.

Instructions: Direct your comments to Docket ID No. EPA-HQ-OAR-2007-0268. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the Agency without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the Agency may not be able to consider your comment. Electronic files should avoid the use of special characters, any form of encryption, and be free of any defects or viruses. For additional information about the Agency's public docket visit the EPA Docket Center homepage at http://www.epa.gov/epahome/dockets.htm. For additional instructions on submitting comments, please refer to the notice of proposed rulemaking (Section XI, Public Participation, of the SUPPLEMENTARY INFORMATION section of the proposed rulemaking document).

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Sara DeCair, Radiation Protection Division, Center for Radiological Emergency Management, Mail Code 6608J, U.S. Environmental Protection Agency, 1200 Pennsylvania Avenue NW., Washington, DC 20460; telephone number: (202) 343-9108 ; fax number: (202) 343-2304; email: decair.sara@epa.gov.

SUPPLEMENTARY INFORMATION:

A. What should I consider as I prepare my comments for the EPA?

1. Submitting Confidential Business Information (CBI). Do not submit this information to the EPA through www.regulations.gov or email. Clearly mark all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information marked as CBI will not be disclosed except in accordance with procedures set forth in 40 CFR part 2.

2. Tips for Preparing Your Comments. When submitting comments, remember to:

• Identify the rulemaking by docket number, subject heading, Federal Register date and page number.

• Follow directions—the EPA may ask you to respond to specific questions or organize comments by referencing the chapter number.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I get copies of this document, the proposed rule and other related information?

The EPA has established a docket for this action under Docket ID No. EPA-HQ-OAR-2007-0268. The EPA has also developed a Web site for the proposed PAGs updates at: http://www.epa.gov/radiation/rert/pags.html. Please refer to the original Federal Register notice on the proposed guidance for detailed information on accessing information related to the proposal.

In response to requests for an extension, we are extending the public comment period for the PAGs updates through September 16, 2013. This extension will provide the public additional time to provide comment on the proposed guidance.

Dated: July 8, 2013.
Gina McCarthy,
Assistant Administrator, Office of Air and Radiation.

[FR Doc. 2013-16898 Filed 7-12-13; 8:45 am]

BILLING CODE 6560-50-P